ENVIRONMENTAL PROTECTION AGENCY

40 CFR Part 300

[EPA-HQ-SFUND-1987-0002; FRL-8706-5]

National Oil and Hazardous Substance Pollution Contingency Plan; National Priorities List

AGENCY: Environmental Protection Agency.

ACTION: Direct Final Notice of Deletion of the Waste Inc. Landfill Superfund Site from the National Priorities List.

SUMMARY: The Environmental Protection Agency (EPA), Region V is publishing a direct final Notice of Deletion of the Waste Inc. Landfill Superfund Site (Site), located in Michigan City, Indiana, from the National Priorities List (NPL). The NPL, promulgated pursuant to section 105 of the Comprehensive Environmental Response, Compensation, and Liability Act (CERCLA) of 1980, as amended, is Appendix B of 40 CFR part 300, which is the National Oil and Hazardous Substances Pollution Contingency Plan (NCP). This direct final deletion is being published by EPA with the concurrence of the State of Indiana, through the Indiana Department of Environmental Management (IDEM), because EPA has determined that all appropriate response actions under CERCLA, other than operation, maintenance, and five-year reviews, have been completed. However, this deletion does not preclude future actions under Superfund.

DATES: This direct final deletion is effective October 20, 2008 unless EPA receives adverse comments by September 22, 2008. If adverse comments are received, EPA will publish a timely withdrawal of the direct final deletion in the Federal Register informing the public that the deletion will not take effect.

ADDRESSES: Submit your comments, identified by Docket ID no. EPA-HQ-SFUND-1987-0002, by one of the following methods:

• E-mail: Dion Novak, Remedial Project Manager, at novak.dion@epa.gov or Robert Paulson, Community Involvement Coordinator, at paulson.robert@epa.gov.

• Fax: Gladys Beard at (312) 886-4071.

• Mail: Dion Novak, Remedial Project Manager, U.S. Environmental Protection Agency (SR-6J), 77 W. Jackson Blvd., Chicago, IL 60604, (312) 886-4737, or Robert Paulson, Community Involvement Coordinator, U.S. Environmental Protection Agency (P-19J), 77 W. Jackson Blvd., Chicago, IL 60604, (312) 886-0272 or 1-800-621-8431.

• Hand delivery: Robert Paulson, Community Involvement Coordinator, U.S. Environmental Protection Agency (P-19J), 77 West Jackson Blvd., Chicago, IL 60604. Such deliveries are only accepted during the docket's normal hours of operation, and special arrangements should be made for deliveries of boxed information.

Instructions: Direct your comments to Docket ID no. EPA-HQ-SFUND-1987-0002. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket

All documents in the docket are listed in the http://www.regulations.gov index. Although listed in the index, some information is not publicly available, e.g., CBI or other information whose disclosure is restricted by statute. Certain other material, such as copyrighted material, will be publicly available only in the hard copy. Publicly available docket materials are available either electronically at http://www.regulations.gov or in hard copy at:

The Regional Office, U.S. Environmental Protection Agency, 77 W. Jackson Blvd., Chicago, IL, official hours of business are Monday through Friday, 8:30 a.m. to 4:30 p.m., excluding Federal holidays. Michigan City Public Library, 100 E. Fourth St., Michigan City, IN 46360, (815) 939-4564, Monday through Thursday, 9 a.m. to 8 p.m., and Friday and Saturday, 9 a.m. to 6 p.m.

FOR FURTHER INFORMATION CONTACT: Dion Novak, Remedial Project Manager, U.S. Environmental Protection Agency (SR-6J), 77 W. Jackson Blvd., Chicago, IL 60604, (312) 886-4737, novak.dion@epa.gov.

SUPPLEMENTARY INFORMATION:

Table of Contents

I. Introduction

II. NPL Deletion Criteria

III. Deletion Procedures

IV. Basis for Site Deletion

V. Deletion Action

I. Introduction

EPA Region V is publishing this direct final Notice of Deletion of the Waste Inc. Landfill (Site) from the National Priorities List (NPL). The NPL constitutes Appendix B of 40 CFR part 300, which is the Oil and Hazardous Substances Pollution Contingency Plan (NCP), which EPA promulgated pursuant to section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). As described in 300.425(e)(3) of the NCP, sites deleted from the NPL remain eligible for Fund-financed remedial actions if future conditions warrant such actions.

Because EPA considers this action to be noncontroversial and routine, this action will be effective October 20, 2008 unless EPA receives adverse comments by September 22, 2008. Along with this direct final Notice of Deletion, EPA is co-publishing a Notice of Intent to Delete in the “Proposed Rules” section of the Federal Register. If adverse comments are received within the 30-day public comment period on this deletion action, EPA will publish a timely withdrawal of this direct final Notice of Deletion before the effective date of the deletion, and the deletion will not take effect. EPA will, as appropriate, prepare a response to comments and continue with the deletion process on the basis of the Notice of Intent to Delete and the comments already received. There will be no additional opportunity to comment.

Section II of this document explains the criteria for deleting sites from the NPL. Section III discusses procedures that EPA is using for this action. Section IV discusses the Waste Inc. Landfill Superfund Site and demonstrates how it meets the deletion criteria. Section V discusses EPA's action to delete the Site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the state, whether any of the following criteria have been met:

i. Responsible parties or other persons have implemented all appropriate response actions required;

ii. all appropriate Fund-financed response under CERCLA has been implemented, and no further response action by responsible parties is appropriate; or

iii. the remedial investigation has shown that the release poses no significant threat to public health or the environment and, therefore, the taking of remedial measures is not appropriate.

Pursuant to CERCLA section 121(c) and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to deletion of the Site:

(1) EPA consulted with the State of Indiana prior to developing this direct final Notice of Deletion and the Notice of Intent to Delete co-published today in the “Proposed Rules” section of the Federal Register.

(2) EPA has provided the State 30 working days for review of this notice and the parallel Notice of Intent to Delete prior to their publication today, and the State, through the Indiana Department of Environmental Management, has concurred on the deletion of the Site from the NPL.

(3) Concurrently with the publication of this direct final Notice of Deletion, a notice of the availability of the parallel Notice of Intent to Delete is being published in a major local newspaper, The LaPorte County News-Dispatch. The newspaper notice announces the 30-day public comment period concerning the Notice of Intent to Delete the Site from the NPL.

(4) The EPA placed copies of documents supporting the proposed deletion in the deletion docket and made these items available for public inspection and copying at the Site information repositories identified above.

(5) If adverse comments are received within the 30-day public comment period on this deletion action, EPA will publish a timely notice of withdrawal of this direct final Notice of Deletion before its effective date and will prepare a response to comments and continue with the deletion process on the basis of the Notice of Intent to Delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

A five-year review was completed on September 27, 2006, and the review concluded that the site remedy was protective of human health and the environment. The Site has achieved cleanup standards.

Site Background and History

Site Location

The Waste Inc. Landfill is located in LaPorte County, Indiana, at 1701 East U.S. Highway 12 in Michigan City, Indiana and the CERCLIS ID is IND980504005. The 32-acre site, which is comprised of the Waste Inc. and Lin-See, Ltd. properties, is bounded by U.S. Highway 12 to the northwest, Michigan Auto Builders and Sullair Corporation to the north and east, Trail Creek to the east and south, and Lake Aluminum Corporation (property owned by Northern Indiana Steel Supply Company, Inc.-NISSCO) to the west.

Site History

In 1939, prior to its development as a landfill, the Site consisted of agricultural land with some lowlands. A metal salvage and reclamation facility on the west side of the Site covered most of the wetland area present in 1939. A small disposal mound was located in the north central portion of the Site in 1954, and an abandoned meander appeared to contain debris. A long mound that consisted of debris, fill, and scrap metal wastes was located along the western perimeter. These mounds expanded over time, and additional mounding occurred in the southeast and southwest portions of the site. Portions of the Site were cleared in 1961 and 1965 to provide parking areas.

Dis-Pos-All Services Division, a division of NISSCO, operated the Site as a landfill from 1965 to 1972. NISSCO sold its disposal operation to Waste Inc. in 1972. Waste Inc. continued to operate the landfill until August 1982. The current owners of the facility are Lin-See Corporation and the County of LaPorte, Indiana.

Dis-Pos-all Services submitted a proposal to the Indiana Stream Pollution Control Board for operation of the landfill in November 1970. Under the proposal, the landfill would only accept paper, wood, and cardboard, with foundry sand used as cover material. The Board issued a non-objection letter to the proposal in 1971. Several subsequent inspections by the Indiana State Board of Health determined that the Site was accepting unapproved material for disposal and was not properly covering combustible material. The Site was ordered closed and covered with clay by the Board in a letter dated August 18, 1974.

Waste Inc. submitted an application to the Board in May 1975 for construction and operation permits. Although the application was denied, no hearing was held on the Waste Inc. appeal of the denial and the site continued to operate. An Agreed Order was executed between Waste Inc. and the Board in May 1981 that set conditions for continued operation of the landfill. A Consent Order was signed in August 1982 that closed the Site, but allowed the acceptance of foundry sand for disposal and allowed Waste Inc. Landfill to begin covering the Site with clay. In 1983, in response to State of Indiana enforcement actions, a Court Order demanded proper closure of the site.

In January 1985, an EPA hazard ranking system evaluation of the Site resulted in an overall hazard ranking score of 50.63. The Site was placed on the NPL in 1987. A Remedial Investigation/Feasibility Study was conducted from March 1987 to September 1993, pursuant to a consent order with EPA. A Record of Decision (ROD) documenting the required remedial action was signed on August 29, 1994. A Unilateral Order was issued on December 8, 1995, which became effective on January 8, 1996, for remedial design/remedial action/operation and maintenance activities.

Remedial Investigation and Feasibility Study (RI/FS)

The RI found that the principal sources of groundwater in the Site area are the unconsolidated deposits of Quaternary glacial drift. These can be divided into four units, including two sand and gravel aquifers and two confining glacial tills. At the Site, only the two shallowest units are present; a dune sand aquifer (depth approximately 17 feet) is underlain by a calcareous silty till (approximately 100 feet thick).

Soil samples collected at the Site were found to be contaminated with volatile organics up to levels of approximately 890,000 parts per billion (ppb), semi-volatile organics up to levels of approximately 6200 ppb, polychlorinated biphenols (PCBs) up to levels of 4400 ppb, and inorganics up to levels of 191,000 ppb.

Groundwater samples collected at the Site were found to be contaminated with volatile organics up to levels of 47 ppb, semi-volatile organics up to levels of 53 ppb, and inorganics up to levels of 1900 ppb.

A risk assessment was conducted and it was determined that there were possible carcinogenic (cancer causing) risks from exposure to contaminated soils (polynuclear aromatic hydrocarbons (PAHs), PCBs and arsenic); carcinogenic risks from groundwater ingestion (carcinogenic PAHs); non-carcinogenic risks from groundwater ingestion (antimony); and carcinogenic and non-carcinogenic risks from ingestion of fish exposed to Site leachate.

The risk assessment for fish ingestion was completed with laboratory studies which simulated the exposure of fish to Site leachate concentrations. This exposure scenario is extremely conservative and the potential for concentrations of leachate to migrate to Trail Creek is no longer possible because the leachate collection trench is operating as designed and groundwater elevation data indicate containment. The likelihood that leachate concentrations would migrate undiluted into Trail Creek before the site remedy was implemented was also extremely unlikely. The resultant risk calculations demonstrated the need for groundwater containment at the Site property boundary but were never based on actual fish sampling, nor was this necessary due to the dilution impacts of the Creek and the identification of many other potential sources of discharge to the Creek that would be much more significant contributors to any Creek contamination issues.

Record of Decision Findings

The ROD for the Waste Inc. Landfill site was signed on August 29, 1994. The major components of the remedy selected in the ROD included the following:

(1) Installation of a Subtitle D cap, meeting the requirements of 329 Indiana Administrative Code (IAC) 2-14-19(3)(b) and 329 IAC 19(3)(a)-(c).

(2) Containment of site shallow groundwater and leachate via an installed collection trench with direct discharge to the Sanitary District of Michigan City.

(3) Collection of landfill gas.

(4) Rerouting the onsite storm sewer.

(5) Removal of an underground fuel storage tank.

(6) Abandonment of an onsite groundwater well.

(7) Posting of fish advisory signs on the site fence along Trail Creek.

(8) Monitoring of groundwater and surface water.

(9) Implementation of institutional controls such as fencing, deed restrictions, and groundwater monitoring.

Response Actions

The final Remedial Action (RA) workplan was submitted to EPA on August 28, 1996, which divided the remedial action into two phases to expedite the construction schedule and adequately prepare the Site so the landfill cover could be constructed under optimum conditions. Phase 1 included construction of various Site preparation tasks, in compliance with the performance specifications presented in the remedial design. These tasks were conducted from September 1996 to April 1997 and included clearing/grubbing of the Site, waste consolidation around the perimeter of the Site, removal of an on-site underground storage tank, abandonment of a water well and several monitoring wells, sliplining the existing concrete storm sewer, and installation of the leachate/shallow groundwater collection system.

Phase 2 was conducted from April 1997 to September 1997 and included construction of the landfill cover and associated landfill gas collection system. A pre-final inspection was performed on September 17, 1997 with construction found to be substantially complete. A final inspection was completed at the site on October 15, 1997. A Construction Completion Report was submitted by the Potentially Responsible Parties (PRPs) in November 1997 and EPA subsequently issued a Preliminary Close Out Report on December 18, 1997.

Cleanup Goals

The five-year review recommended the placement of institutional controls on both parcels; and this has been completed (Restrictive covenants were placed on the Waste Inc. Landfill property August 9, 2007 and the Lin-See property March 16, 2007). The landfill cap has been completed and prevents direct human contact with wastes in the soil. Confirmatory groundwater sampling has determined that the ROD goal of containment at the property boundary has been achieved.

The leachate and shallow groundwater collection trench is keyed into the underlying confining layer so that all shallow groundwater and leachate are collected by the trench and conveyed through dedicated piping to the Sanitary District pursuant to a permit for direct discharge. The trench is effectively containing the migration of Site groundwater as is demonstrated by the groundwater elevation information presented in the final closeout report. The District indicates that shallow groundwater and leachate sent to the District system meets the permit requirements for discharge, as outlined originally in the Site ROD and subsequently updated in permit renewals.

As outlined in the Final Close Out Report, a technical memorandum was developed that would address remediation of the deeper aquifer groundwater if monitoring determined that contamination was migrating to the deeper aquifer. Site monitoring data indicates that the contamination is confined to the shallow aquifer, which is being collected by the leachate trench and that there has been no contamination found in the deep aquifer. Monitoring will continue and if deep aquifer contamination is detected, the contingency actions in the technical memorandum will be implemented. This is required by and enforceable under the Site consent decree still in place for the Site.

Operation and Maintenance

Primary activities associated with Site Operation Maintenance (O&M), as performed by the Site PRP group include:

■ Landfill cap maintenance.

■ Groundwater and surface water monitoring.

■ Landfill gas monitoring.

■ Surface water controls—control of siltation and erosion of the landfill cap.

■ Periodic mowing of the landfill cover vegetation.

■ Coordination with the Sanitary District to provide leachate and shallow groundwater monitoring information to ensure that discharge permit conditions are satisfied.

Institutional Controls

Two of the property owners, Lin-See Corporation and LaPorte County, placed institutional controls on the parcels at the Site (March 16, 2007 and August 9, 2007, respectively). The institutional controls were to restrict land and groundwater uses of the site as restrictive covenants on both Site parcels. These restrictive covenants are enforceable by the Site PRPs, EPA, and IDEM, and the recorded instruments have been filed in LaPorte County. The fish advisory signs remain intact on the site fencing, as the fish advisory remains in effect for the entirety of Trail Creek. The signs will remain on the site fencing during the Operation and Maintenance (O&M) period as required by the ROD and Consent Decree (CD). The State monitors fish in Trail Creek as part of their periodic water quality assessment process, and the fish advisory will be modified according to the normal procedures of the State. As stated above, the site shallow groundwater and leachate are not migrating to Trail Creek so any current contamination issues in the Creek are the result of other sources.

Five-Year Review

EPA conducted five-year reviews of the Site in 2001 and 2006. In the reviews, EPA concluded that all remedial actions are complete. The next five-year review will be conducted in 2011. The latest five-year review called for the placement of restrictive covenants on both Site parcels and as outlined above, this is complete. The review also called for an analysis of the impacts of the revised Maximum Contaminant Level (MCL) for arsenic on the Site remedy. EPA has determined that the revised arsenic MCL has limited impact on the protectiveness of the Site remedy because the goal of the groundwater collection at the Site is to contain any off-site migration of Site groundwater and the only performance standard for the collected groundwater are the discharge requirements placed by the Sanitary District. As the District continues to allow discharge from the Site without the need for pretreatment and the Site groundwater is effectively controlled by the collection trench, the protectiveness of the Site remedy is not impacted by the revised MCL for arsenic and this will be further documented in the next five-year review.

Community Involvement

Public participation activities have been satisfied as required in CERCLA section 113(k), 42 U.S.C. 9613(k), and CERCLA section 117, 42 U.S.C. 9617. Documents in the deletion docket which EPA relied on for recommendation of the deletion of this Site from the NPL are available to the public in the information repositories, and at www.regulations.gov.

Determination That the Site Meets the Criteria for Deletion in the NCP

The NCP (40 CFR 300.425(e)) states that a site may be deleted from the NPL when no further response action is appropriate. EPA, in consultation with the State of Indiana, has determined that the responsible parties have implemented all response actions required.

V. Deletion Action

EPA, with concurrence of the State of Indiana through the Indiana Department of Environmental Management, has determined that all appropriate response actions under CERCLA (other than operation, maintenance, monitoring and five-year reviews) have been completed. Therefore, EPA is deleting the Site from the NPL.

Because EPA considers this action to be noncontroversial and routine, EPA is taking it without prior publication. This action will be effective October 20, 2008 unless EPA receives adverse comments by September 22, 2008. If adverse comments are received within the 30-day public comment period, EPA will publish a timely withdrawal of this direct final Notice of Deletion before the effective date of the deletion, and it will not take effect. EPA will prepare a response to comments and continue with the deletion process on the basis of the notice of intent to delete and the comments already received. There will be no additional opportunity to comment.

List of Subjects in 40 CFR Part 300

Environmental protection, Air pollution control, Chemicals, Hazardous substances, Hazardous waste, Intergovernmental relations, Penalties, Reporting and recordkeeping requirements, Superfund, Water pollution control, Water supply.

Dated: August 7, 2008
Walter W. Kovalick Jr.,
Acting Regional Administrator, Region V.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

Appendix B—[Amended]

2. Table 1 of Appendix B to part 300 is amended under Indiana (IN) by removing the site name “Waste Inc. Landfill” and the corresponding City/County designation “Michigan City”.

[FR Doc. E8-19256 Filed 8-20-08; 8:45 am]

BILLING CODE 6560-50-P